DEPARTMENT OF TRANSPORTATION

Federal Aviation Administration

14 CFR Part 39

[Docket No. 2004-NE-11-AD; Amendment 39-13517; AD 2004-05-22]

RIN 2120-AA64

Airworthiness Directives; Rolls-Royce Deutschland (RRD) (Formerly Rolls-Royce, plc) TAY 611-8, TAY 620-15, TAY 650-15, and TAY 651-54 Series Turbofan Engines

AGENCY: Federal Aviation Administration (FAA), DOT.

ACTION: Final rule; request for comments.

SUMMARY: The FAA is adopting a new airworthiness directive (AD) for certain RRD TAY 611-8, TAY 620-15, TAY 650-15, and TAY 651-54 series turbofan engines with ice-impact panels installed in the low pressure (LP) compressor case. This AD requires inspecting all ice-impact panels and fillers in the LP compressor case for certain conditions, and if necessary, replacing any ice-impact panels and fillers that have those conditions. This AD results from two reports of ice-impact panels that released during flight, one of which resulted in reduction of power in both engines. We are issuing this AD to prevent release of ice-impact panels due to improper bonding that can result in loss of thrust in both engines.

DATES: Effective March 25, 2004. The Director of the Federal Register approved the incorporation by reference of certain publications listed in the regulations as of March 25, 2004.

We must receive any comments on this AD by May 10, 2004.

ADDRESSES: Use one of the following addresses to submit comments on this AD:

• By mail: The Federal Aviation Administration (FAA), New England Region, Office of the Regional Counsel, Attention: Rules Docket No. 2004-NE-11-AD, 12 New England Executive Park, Burlington, MA 01803-5299.

• By fax: (781) 238-7055.

• By e-mail: 9-ane-adcomment@faa.gov

You can get the service information referenced in this AD from Rolls-Royce Deutschland Ltd & Co KG, Eschenweg 11, D-15827 Dahlewitz, Germany; telephone 49 (0) 33-7086-1768; fax 49 (0) 33-7086-3356.

You may examine the AD docket, by appointment, at the FAA, New England Region, Office of the Regional Counsel, 12 New England Executive Park, Burlington, MA. You may examine the service information, by appointment, at the FAA, New England Region, Office of the Regional Counsel, 12 New England Executive Park, Burlington, MA; or at the Office of the Federal Register, 800 North Capitol Street, NW., suite 700, Washington, DC.

FOR FURTHER INFORMATION CONTACT: Jason Yang, Aerospace Engineer, Engine Certification Office, FAA, Engine and Propeller Directorate, 12 New England Executive Park, Burlington, MA 01803-5299; telephone (781) 238-7747; fax (781) 238-7199.

SUPPLEMENTARY INFORMATION: The Luftfahrt-Bundesamt (LBA), which is the airworthiness authority for Germany, recently notified the FAA that an unsafe condition may exist on certain RRD TAY 611-8, TAY 620-15, TAY 650-15, and TAY 651-54 series turbofan engines. The LBA advises that they received two reports of ice-impact panels that separated from LP compressor cases during icing conditions and caused significant reductions of thrust in the engines. In one case, on a Fokker F.28 Mk. 0070, the panels separated almost simultaneously in both TAY 620-15 turbofan engines and reduced the thrust of the engines to the point that the airplane made an emergency, off-airport landing. That landing resulted in damage to the airplane landing gear and bottom side of the airplane fuselage. In the other case, the panels released on a single TAY 620-15 turbofan engine installed on a Fokker F.28 Mk.0100 airplane. The original configuration of ice-impact panels used 36 small ice-impact panels. Rolls-Royce, plc Service Bulletin (SB) No. TAY-72-1326 introduced six large panels instead of the 36 small panels. Repair procedures TV5451R or HRS3491 allow replacing six adjacent small panels of the 36-panel configuration with a single large panel.

Relevant Service Information

We have reviewed and approved the technical contents of RRD SB No. TAY-72-1627, Revision 2, dated February 5, 2004; and RRD SB No. TAY-72-1631, dated February 6, 2004; that describe procedures for inspecting, and if necessary, replacing the ice-impact panels on the LP compressor case. The LBA classified these service bulletins as mandatory and issued AD D-2004-055R1, dated January 24, 2004; and AD D-2004-090, dated February 12, 2004; in order to ensure the airworthiness of these RRD engines in Germany.

Differences Between This AD and the Service Information

The RRD SBs specify calendar dates for the compliance times. We have included compliance times based on engine cycles with the calendar date as an end date. We used a risk analysis from RRD to determine the engine cycles for the compliance times.

Bilateral Airworthiness Agreement

This engine model is manufactured in Germany and is type certificated for operation in the United States under the provisions of § 21.29 of the Federal Aviation Regulations (14 CFR 21.29) and the applicable bilateral airworthiness agreement. Under this bilateral airworthiness agreement, the LBA has kept us informed of the situation described above. We have examined the findings of the LBA, reviewed all available information, and determined that AD action is necessary for products of this type design that are certificated for operation in the United States.

FAA's Determination and Requirements of this AD

The unsafe condition described previously is likely to exist or develop on other RRD TAY 611-8, TAY 620-15, TAY 650-15, and TAY 651-54 series turbofan engines of the same type design. We are issuing this AD to prevent release of ice-impact panels due to improper bonding that can result in loss of thrust in both engines. This AD requires inspecting, and if necessary replacing, ice-impact panels on the LP compressor cases. You must use the service information described previously to perform the actions required by this AD.

FAA's Determination of the Effective Date

Since an unsafe condition exists that occurs during icing conditions, and the compliance times for the actions equate to about two months after the effective date of this AD, we require the immediate adoption of this AD. We have found that notice and opportunity for public comment before issuing this AD are impracticable, and that good cause exists for making this amendment effective in less than 30 days.

Changes to 14 CFR Part 39—Effect on the AD

On July 10, 2002, we issued a new version of 14 CFR part 39 (67 FR 47998, July 22, 2002), which governs our AD system. This regulation now includes material that relates to special flight permits, alternative methods of compliance, and altered products. This material previously was included in each individual AD. Since this material is included in 14 CFR part 39, we will not include it in future AD actions.

Interim Action

These actions are interim actions and we may take further rulemaking actions in the future.

Comments Invited

This AD is a final rule that involves requirements affecting flight safety and was not preceded by notice and an opportunity for public comment; however, we invite you to submit any written relevant data, views, or arguments regarding this AD. Send your comments to an address listed under ADDRESSES. Include “AD Docket No. 2004-NE-11-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us verbally, and that contact relates to a substantive part of this AD, we will summarize the contact and place the summary in the docket. We will consider all comments received by the closing date and may amend the AD in light of those comments.

We are reviewing the writing style we currently use in regulatory documents. We are interested in your comments on whether the style of this document is clear, and your suggestions to improve the clarity of our communications with you. You may get more information about plain language at http://www.faa.gov/language and http://www.plainlanguage.gov.

Examining the AD Docket

You may examine the AD Docket (including any comments and service information), by appointment, between 8 a.m. and 4:30 p.m., Monday through Friday, except Federal holidays. See ADDRESSES for the location.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2004-NE-11-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

200X-05-22 Rolls-Royce Deutschland Ltd & Co KG (RRD) (Formerly Rolls-Royce, plc): Amendment 39-13517. Docket No. 2004-NE-11-AD.

Effective Date

(a) This airworthiness directive (AD) becomes effective March 25, 2004.

Affected ADs

(b) None.

Applicability

(c) This AD applies to RRD TAY 611-8, TAY 620-15, TAY 650-15, and TAY 651-54 series turbofan engines with ice-impact panels installed in the low pressure (LP) compressor case that conform to Rolls-Royce, plc (RR) Service Bulletin (SB) No. TAY-72-1326 or were repaired using repair procedures TV5415R or HRS3491. These engines are installed on, but not limited to, Fokker F.28 Mk.0070 and Mk.0100 series airplanes, Gulfstream Aerospace G-IV series airplanes, and Boeing Company 727-100 series airplanes modified in accordance with Supplemental Type Certificate (STC) SA8472SW (727-QF).

Unsafe Condition

(d) This AD results from two reports of ice-impact panels that released during flight, one of which resulted in reduction of power in both engines. We are issuing this AD to prevent release of ice-impact panels due to improper bonding that can result in loss of thrust in both engines.

Compliance

(e) You are responsible for having the actions required by this AD performed within the compliance times specified unless the actions have already been done.

Inspecting the Ice-impact Panels for Movement and Moisture on the Panel and Damage to the Blue Filler on Airplanes That Have Two or Three Engines With the Affected Ice-impact Panels

(f) For airplanes that have two TAY 620-15 or TAY 650-15 engines with ice-impact panels, and the ice-impact panels on any of those engines incorporate RR SB No. TAY-72-1326 or were repaired using repair procedures TV5415R or HRS3491, do the following.

(1) Within 500 cycles-in-service (CIS) after the effective date of this AD, but no later than August 15, 2004, inspect for the condition of the ice-impact panels and blue fillers on one or two engines so that no more than one engine with ice-impact panels and fillers that need to be inspected remains on the airplane. Use 3.B.(1) through 3.D.(2) of the Accomplishment Instructions of RRD SB No. TAY-72-1627, Revision 2, dated February 5, 2004.

(2) Within 1,500 CIS after the effective date of this AD, inspect for the condition of the ice-impact panels and blue fillers on the remaining engine. Use 3.B.(1) through 3.D.(2) of the Accomplishment Instructions of RRD SB No. TAY-72-1627, Revision 2, dated February 5, 2004.

(g) For airplanes that have two or three TAY 651-54 engines with ice-impact panels incorporated with RR SB No. TAY-72-1326 standard or were repaired using repair procedures TV5415R or HRS3491, do the following.

(1) Within 500 cycles-in-service (CIS) after the effective date of this AD, but no later than October 1, 2004, inspect for the condition of the ice-impact panels and blue fillers on one or two engines so that no more than one engine with ice-impact panels and fillers that need to be inspected remains on the airplane. Use 3.B.(1) through 3.D.(2) of the Accomplishment Instructions of RRD SB No. TAY-72-1627, Revision 2, dated February 5, 2004.

(2) Within 1,500 CIS after the effective date of this AD, inspect for the condition of the ice-impact panels and blue fillers on the remaining engine. Use 3.B.(1) through 3.D.(2) of the Accomplishment Instructions of RRD SB No. TAY-72-1627, Revision 2, dated February 5, 2004.

(h) For airplanes that have two TAY 611-8 engines with ice-impact panels, incorporated with RR SB No. TAY-72-1326 standard or were repaired using repair procedures TV5415R or HRS3491, do the following.

(1) Within 372 flight hours (FH) after the effective date of this AD inspect the ice-impact panels on one engine. Use 3.B.(1) through 3.D.(1)(a) of the Accomplishment Instructions of RRD SB No. TAY-72-1631, dated February 6, 2004.

(2) Within 900 FH after the effective date of this AD, inspect the ice-impact panels on the remaining engine. Use 3.B.(1) through 3.D.(1)(a) of the Accomplishment Instructions of RRD SB No. TAY-72-1631, dated February 6, 2004.

Inspecting the Ice-impact Panels for Movement and Moisture on the Panel and Damage to the Blue Filler on Airplanes That Have One Engine With the Affected Ice-impact Panels

(i) For airplanes that have one TAY 620-15, TAY 650-15, or TAY 651-54 engine with ice-impact panels incorporated with RR SB No. TAY-72-1326 standard or were repaired using repair procedures TV5415R or HRS3491, within 1,500 CIS after the effective date of this AD, inspect for the condition of the ice-impact panels and blue fillers on the engine. Use 3.B.(1) through 3.D.(2) of the Accomplishment Instructions of RRD SB No. TAY-72-1627, Revision 2, dated February 5, 2004.

(j) For airplanes that have one TAY 611-8 engine with ice-impact panels incorporated with RR SB No. TAY-72-1326 standard or were repaired using repair procedures TV5415R or HRS3491, within 900 FH after the effective date of this AD, inspect for the condition of the ice-impact panels and blue fillers on the engine. Use 3.B.(1) through 3.D.(1)(a) of the Accomplishment Instructions of RRD SB No. TAY-72-1631, dated February 6, 2004.

Installing Engines That Are Not Inspected

(k) After the effective date of this AD, do not install any TAY 620-15, TAY 650-15, or TAY 651-54 engine with ice-impact panels, if those ice-impact panels incorporate RR SB No. TAY-72-1326 or were repaired using repair procedures TV5415R or HRS3491, unless the panels and blue fillers are inspected for condition using 3.B.(1) through 3.D.(2) (in-service) or 3.H.(1) through 3.K.(1)(b) (at overhaul or shop visit) of the Accomplishment Instructions of RRD SB No. TAY-72-1627, Revision 2, dated February 5, 2004.

(l) After the effective date of this AD, do not install any TAY 611-8 engine with ice-impact panels, if those ice-impact panels incorporate RR SB No. TAY-72-1326 or were repaired using repair procedures TV5415R or HRS3491, unless the panels are inspected for condition using 3.B.(1) through 3.D.(1)(a) (in-service) or 3.H.(1) through 3.K.(1) (at overhaul or shop visit) of the Accomplishment Instructions of RRD SB No. TAY-72-1631, dated February 6, 2004.

Alternative Methods of Compliance

(m) The Manager, Engine Certification Office, has the authority to approve alternative methods of compliance for this AD if requested using the procedures found in 14 CFR 39.19.

Material Incorporated by Reference

(n) You must use the service information specified in Table 1 to perform the inspections required by this AD. The Director of the Federal Register approved the incorporation by reference of the documents listed in Table 1 of this AD in accordance with 5 U.S.C. 552(a) and 1 CFR part 51. You can get a copy from Rolls-Royce Deutschland Ltd & Co KG, Eschenweg 11, D-15827 Dahlewitz, Germany; telephone 49 (0) 33-7086-1768; fax 49 (0) 33-7086-3356. You may review copies at the FAA, New England Region, Office of the Regional Counsel, 12 New England Executive Park, Burlington MA; or at the Office of the Federal Register, 800 North Capitol Street, NW., suite 700, Washington, DC. Table 1 follows:

Table 1.—Incorporation by Reference
Service bulletin No. | Page | Revision | Date
TAY-72-1627, Total Pages—22 | All | 2 | February 5, 2004.
TAY-72-1631, Total Pages—19 | All | Original | February 6, 2004.

Related Information

(o) Luftfahrt-Bundesamt airworthiness directive (AD) D-2004-055R1, dated January 24, 2004; and AD D-2004-090, dated February 12, 2004; also address the subject of this AD.

Issued in Burlington, Massachusetts, on March 3, 2004.
Francis A. Favara,
Acting Manager, Engine and Propeller Directorate, Aircraft Certification Service.

[FR Doc. 04-5263 Filed 3-9-04; 8:45 am]

BILLING CODE 4910-13-P